DEPARTMENT OF TRANSPORTATION

National Highway Traffic Safety Administration

[Docket No. NHTSA-2024-0059]

Denial of Motor Vehicle Defect Petition, DP22-003

AGENCY: National Highway Traffic Safety Administration (NHTSA), Department of Transportation.

ACTION: Denial of a petition for a defect investigation.

SUMMARY: This notice sets forth the reasons for the denial of a defect petition (DP22-003) jointly submitted by a consulting firm and four automotive associations requesting that the Agency initiate a safety defect investigation into the loss of motive power incidents attributed to oil drain pan assembly failures on certain Hyundai Motor America, Inc. and Kia America, Inc. vehicles spanning Model Years (MY) 2005-2021. After conducting a technical review of the petition and other information, NHTSA's Office of Defects Investigation has concluded that the issues raised by the petition do not warrant a defect investigation at this time. Accordingly, the Agency has denied the petition.

FOR FURTHER INFORMATION CONTACT: Joseph Teitelman, Vehicle Defect Division C, Office of Defects Investigation, NHTSA, 1200 New Jersey Avenue SE, Washington, DC 20590. Telephone: (202) 366-3243. Email: joseph.teitelman@dot.gov.

SUPPLEMENTARY INFORMATION:

Introduction

Interested persons may petition NHTSA requesting that the Agency initiate an investigation to determine whether a motor vehicle or an item of replacement equipment does not comply with an applicable motor vehicle safety standard or contains a defect that relates to motor vehicle safety. 49 U.S.C. 30162(a)(2); 49 CFR 552.1. Upon receipt of a properly filed petition, the Agency conducts a technical review of the petition, material submitted with the petition, and any additional information. 49 U.S.C. 30162(a)(2); 49 CFR 552.6. The technical review may consist solely of a review of information already in the possession of the Agency or it may include the collection of information from a motor vehicle manufacturer and/or other sources. After conducting the technical review and considering appropriate factors, which may include, but are not limited to, the nature of the complaint, allocation of Agency resources, Agency priorities, the likelihood of uncovering sufficient evidence to establish the existence of a defect, and the likelihood of success in any necessary enforcement litigation, the Agency will grant or deny the petition. See 49 U.S.C. 30162(a)(2); 49 CFR 552.8.

Background Information

On September 12, 2022, the Office of Defects Investigation (ODI) opened a Defect Petition (DP22-003) to evaluate the petition, which was jointly submitted by a consulting firm ¹ and four automotive associations ² (collectively, the “Petitioners”) to NHTSA (the “Agency”) on July 13, 2022. The Petitioners requested that NHTSA initiate a safety defect investigation into the oil drain pan assemblies of multiple Hyundai and Kia vehicles. The following Hyundai and Kia vehicles were referenced in the petition, representing an estimated combined population of more than 7.5 million vehicles and 83 total model/model year vehicles: 2006-2019 Hyundai Sonata, 2013-2018 Hyundai Santa Fe Sport, 2010-2012 and 2019-2020 Hyundai Santa Fe, 2010-2015 and 2018-2019 Hyundai Tucson, 2011-2021 Kia Sportage, 2005-2020 Kia Optima, 2011-2020 Kia Sorento, 2010-2013 Kia Forte, 2010-2013 Kia Forte Coup, and 2007-2010 Kia Rondo. The Petitioners submitted four supplemental letters to the Agency on January 31, 2023, March 21, 2023, May 23, 2023, and August 4, 2023. NHTSA's technical review of the petition included a review of the material cited by the Petitioners, consumer complaint information in NHTSA's databases, and related dealer communications.

¹ Johnson Policy Associates, Inc.

² Automotive Oil Change Association, Auto Care Association, Service Station Dealers Association & Allied Trades, and Automotive Service Association.

Summary of Petition

The Petitioners assert that the subject vehicles manufactured by Hyundai Motor America, Inc. (“Hyundai”) and Kia America, Inc. (collectively, “H/K”) are equipped with oil drain pan assemblies that “have experienced unprecedented allegations of mid-interval plug-outs thousands of miles after service without malfunction indicator lights or the leakage associated with under-tightening an oil drain plug, or a plug or pan with damaged threads.” Additionally, the Petitioners allege that the defective oil pan assemblies are causing engines to seize and experience a loss of motive power while being operated, often at highway speeds. The specific failure mode detailed in the petition is the engine oil drain plug “backing out” while the vehicle is being operated following an oil change. The “backing out” of the drain plug results in the sudden and rapid draining of engine oil, thereby leading to loss of motive power. The Petitioners assert that the oil drain plug gaskets are “paint-camouflaged” and “fused to either the plug or pan.” It is alleged that when the oil of the subject vehicles is being changed, there is an increased likelihood of failing to remove the existing drain plug gasket before applying a new one, an act commonly referred to as either double-gasketing or stacking gaskets. The Petitioners indicate that the absence of necessary technical information for changing oil in H/K vehicles' owner's manuals contributes to the improper application of multiple drain plug gaskets.

Additionally, the Petitioners allege that the subject vehicles' oil pans have insufficient structural integrity. The Petitioners state that the “overall flimsy pan material” contributes to the loosening of the drain plugs and leads to cracks developing in the oil pans. The petition cites five examples of vehicles with oil pans that were identified as containing cracks and provides supporting photographs.

Furthermore, the Petitioners assert that H/K should have identified a safety-related defect in relation to the alleged issue and communicated such to NHTSA by submitting a Defect and Noncompliance Information Report, pursuant to applicable federal regulations. The Petitioners also suggest that the manufacturers should circulate information addressing the risks associated with their painted oil pan assemblies in a Technical Service Bulletin (TSB).

The July 13, 2022, petition references eight complaints, which were reported by consumers directly to NHTSA and “over 100” complaints sourced from professional aftermarket automotive maintenance experts and consumer forums. In the four supplemental letters to the Agency, additional complaints were referenced by the Petitioners, bringing the total number of complaints from all sources to 166. The supplemental letters also reference an expanded list of subject vehicles and brought the total to at least 144 model/model year vehicles, representing an estimated combined population of more than 11.5 million vehicles.

Office of Defects Investigation Analysis

ODI completed a detailed review of the eight Vehicle Owner Questionnaires (VOQs) which were referenced in the petition. ODI determined that five of the eight complaints were related to claims of drain plug back outs leading to loss of motive power and/or permanent engine damage. The remaining three complaints were not related to the issues raised by the Petitioners and instead included allegations about excessive oil consumption and unrelated engine failure. With respect to the complaints that were related to the issues raised by the Petitioners, a loss of motive power event was commonly related to a prior oil change service, conducted either at a dealership or a third-party service center.

ODI conducted a broad search of NHTSA's database for any additional VOQs involving all H/K models from MY 2005 through the present. The database search, which was aimed at locating complaints referencing the oil drain plug or a crack in the oil pan, produced 46 additional VOQs that were related to the issues raised by the Petitioners and contained unique VINs. Of the 51 total related VOQs, there were no reported collisions or vehicle fires. The vehicle models that represented the largest percentage of the related VOQs were the Hyundai Sonata with 15 reported complaints, the Hyundai Santa Fe with eight reported complaints, the Kia Sorento with six reported complaints, and the Hyundai Tucson with five reported complaints. The failure rates for individual H/K models represented by the VOQs submitted to NHTSA are all less than 2 reported occurrences per 100,000 vehicles, which is relatively low for a population that includes vehicles that have been in service for more than 10 years.

Based on a review of the available data, the subject failure mode has not occurred between the initial sale of a vehicle and the completion of its first oil change. There is insufficient information to support that a vehicle-based defect exists relating to the oil pan assembly, and instead the documented incidents appear related to a failure to follow the proper procedure during an oil change service. It is noteworthy that the reported failure mileage varies greatly within both the population of VOQs submitted to NHTSA and the additional reports referenced by the Petitioners, making it apparent that simply changing the oil for the first time does not result in the backing out of the oil drain plug. It is not unusual or unprecedented for a vehicle to require the removal of an oil drain plug gasket during an oil change service, and properly trained technicians should be aware of the need to do so before adding a new gasket and re-installing the oil drain plug.

A review of the photographs of alleged oil pan cracks revealed that all examples of the alleged issue were localized to the immediate vicinity of the oil drain plug. Additionally, multiple photographs depicted witness marks on the surface of the oil pan, indicating that direct contact likely occurred between the component and a tool during servicing. The available information demonstrates that the documented oil pan damages were likely the result of improper maintenance procedures rather than defective components.

In further consideration of the issue raised by the Petitioners, ODI conducted a review of previous Agency investigations and actions that shared technical similarities. In 2004, ODI opened a Preliminary Evaluation (later upgraded to an Engineering Analysis) focusing on MY 2003-2005 Honda CR-V vehicles that were experiencing engine compartment fires. The failures, which were reported to ODI at a rate of more than 30 per 100,000 vehicles, related to an oil leak resulting from the stacking of oil filter gaskets during an oil change service.³ Through its investigations, ODI determined that technician error was one of the main contributing factors to the high rate of vehicle fires and concluded that if the initial oil change was done properly on the subject vehicles with the original oil filter gasket being removed and a new one being correctly installed, the elevated risk of fire was eliminated. The Engineering Analysis was closed in January 2005 without a field action based on ODI's findings. Conversely, in 2013, an equipment recall was issued on oil filters manufactured by FRAM Group Operations, LLC. It was determined that the oil filters, which were sold for installation on several Subaru models, were manufactured with improper threading of the base plate, leading to an inadequate seal and the potential for rapid oil leakage.⁴ These examples demonstrate that the Agency has not proceeded with recall action on issues that appear to stem from improper repair procedures, but has acted to remedy defective components that lead to the loss of engine oil.

³ PE04-018 (2004) Office of Defects Investigations, NHTSA; EA04-027 (2004) Office of Defects Investigations, NHTSA.

⁴ NHTSA Safety Recall Number 13E-005.

In October 2023, Hyundai published a TSB with the subject: “Engine Oil and Filter Change Service Guidelines.” ⁵ The TSB, which is applicable to all Hyundai models equipped with gasoline engines, provides numbered instructions with accompanying photographs and specifically highlights the need to remove and replace existing drain plug gaskets prior to reinstalling the drain plug. This TSB reinforces proper maintenance procedures for oil change service on Hyundai vehicles.

⁵ Hyundai TSB 23-EM-005H. (2023) Engine Oil and Filter Change Service Guidelines.

After a thorough review of the material submitted by the Petitioners and other pertinent information available to the Agency, NHTSA has not identified sufficient evidence of a vehicle-based defect pertaining to the oil pan assemblies of the subject vehicles. Based on the available information, it is unlikely that any investigation opened from the granting of this petition would result in an order concerning the notification and remedy of a safety-related defect. Consequently, this petition is denied. The denial of this petition does not foreclose the Agency from taking further action if warranted or making a future finding that a safety-related defect exists based upon additional information that the Agency may receive.

Authority: 49 U.S.C. 30162(d) and 49 CFR part 552; delegation of authority at 49 CFR 1.95(a).⁶

⁶ The authority to determine whether to approve or deny defect petitions under 49 U.S.C. 30162(d) and 49 CFR part 552 has been further delegated to the Associate Administrator for Enforcement.

Eileen Sullivan,
Associate Administrator, Enforcement.

[FR Doc. 2024-20971 Filed 9-13-24; 8:45 am]

BILLING CODE 4910-59-P